DEPARTMENT OF HOUSING AND URBAN DEVELOPMENT

[Docket No. FR-4560-N-15]

FY 2000 Super Notice of Funding Availability (SuperNOFA) for HUD's Housing, Community Development and Empowerment Programs and Section 8 Housing Voucher Assistance; Notice of Amendment and Clarification to the Continuum of Care Program

AGENCY: Office of the Assistant Secretary for Community Planning and Development, HUD.

ACTION: Super notice of funding availability (SuperNOFA) for HUD grant programs; notice of amendment and clarification to the continuum of care program.

SUMMARY: On February 24, 2000, HUD published its Fiscal Year 2000 Super Notice of Funding Availability (SuperNOFA) for Housing, Community Development and Empowerment Programs, and Section 8 Housing Voucher Assistance. This document makes one clarification and two amendments to the Continuum of Care program requirements in the FY 2000 SuperNOFA. First, this document clarifies that funding for Shelter Plus Care renewal projects will be made from the separate McKinney Act appropriation established by the Congress for this purpose under the FY 2001 HUD Appropriations Act. This document also makes two amendments to the Continuum of Care program to reflect the establishment of this separate appropriation in HUD's implementation of the 30 percent permanent housing funding requirement under the FY 2000 HUD Appropriations Act.

FOR FURTHER INFORMATION CONTACT: Clifford Taffet, Office of Special Needs Assistance, Office of Community Planning and Development, U.S. Department of Housing and Urban Development, 451 Seventh Street, SW., Room 7266, Washington, DC 20410; telephone (202) 708-1234 (this is not a toll-free telephone number). Hearing and speech-impaired individuals may access this number via TTY by calling the toll-free Federal Information Relay Service at 1-800-877-8339.

SUPPLEMENTARY INFORMATION: On February 24, 2000 (65 FR 9322) published its Fiscal Year 2000 Super Notice of Funding Availability (SuperNOFA) for Housing, Community Development and Empowerment Programs, and Section 8 Housing Voucher Assistance. This document makes one clarification and two amendments to the Continuum of Care program requirements contained in the FY 2000 SuperNOFA (beginning at 65 FR 9850). The clarification and changes made by this document are as follows:

A. McKinney Act Funding for Shelter Plus Care Renewal Projects

The Continuum of Care program section of the FY 2000 SuperNOFA, reserved for HUD the right to skip over eligible Shelter Plus Care renewal projects submitted in the competition and to fund them from sources “other than the McKinney Act” should the Congress pass legislation allowing this (see 65 FR 9851, third column). At the time of publication of the FY 2000 SuperNOFA, HUD believed that, were Congress to act, the source of funds for these renewals would be the Section 8 Housing Certificate Fund. However, the FY 2001 HUD Appropriations Act (Public Law 106-377, approved October 27, 2000) establishes a separate appropriation under the McKinney Act for this purpose. Therefore, HUD is publishing this document to inform interested parties that these non-competitive awards will be funded from this separate special appropriation under the McKinney Act.

B. Permanent Housing Funding Requirements

The FY 2000 HUD Appropriations Act (Public Law 106-24, approved October 20, 1999) requires that “not less than 30 percent of these funds shall be used for permanent housing” (which the FY 2000 Continuum of Care NOFA defines to include Shelter Plus Care renewal projects). The action taken by Congress to fund Shelter Plus Care renewal projects, a significant component of permanent housing funding in previous years, from a source other than the FY 2000 Homeless Assistance Grants appropriation, prevents these projects from counting toward the 30 percent permanent housing requirement contained in the FY 2000 HUD Appropriations Act. As a consequence, HUD will find it necessary, as contemplated in the FY 2000 Continuum of Care program section of the SuperNOFA, to skip over higher scoring non-permanent housing projects in order to reach the 30 percent requirement. However, in order to reduce the impact on existing homeless programs in implementing this statutory requirement, and in keeping with expressed Congressional intent to maintain existing programs and infrastructure for homeless assistance, HUD is amending the FY 2000 Continuum of Care NOFA as follows:

1. Funding for Supportive Housing Program (SHP) Renewal Projects Assigned 40 Need Points.

Section III(A)(2) of the FY 2000 Continuum of Care NOFA reserved for HUD the authority to use FY 2001 funds, if available, to conditionally select for one year of funding lower-rated eligible Supportive Housing Program (SHP) renewal projects that were assigned 40 need points if two criteria were met. The first criterion was that these projects had to be part of Continuum of Care systems “that would not otherwise receive funding.” Since the recent Congressional action will result in at least one permanent housing project being funded in many Continua of Care which scored below the projected funding line, these Continua of Care would be made ineligible for renewal funding under this authority. In order to avoid this unintended consequence of the congressional action, the criterion is being amended to read “that would not otherwise receive funding for these projects” so that it would apply specifically to these lower rated eligible SHP renewal projects that were assigned 40 need points, thus allowing these renewal projects to be funded under this authority.

2. Skipping Over of Higher Scoring Non-Permanent Housing Projects.

Section V(A)(7) of the FY 2000 Continuum of Care NOFA described the 30 percent permanent housing funding requirement established by Congress for the Continuum of Care competition. This section is being amended to permit HUD to first skip over new non-permanent housing projects when making project selections in order to meet the 30 percent requirement. If the 30 percent requirement has not been met after skipping over the new non-permanent housing projects, then HUD will skip over non-permanent housing renewal projects. In skipping over new non-permanent housing projects, HUD will begin with the lowest rated (eligible) fundable new non-permanent project at the projected funding line and continue up the rating and ranking until the 30 percent requirement is met. If HUD is required to skip over non-permanent housing renewal projects, HUD will proceed in the same way.

Accordingly, in the Super Notice of Funding Availability for Housing, Community Development, and Empowerment Programs and Section 8 Housing Voucher Assistance for Fiscal Year 2000, notice document 00-4123, beginning at 65 FR 9322, in the issue of Friday, February 24, 2000, the following clarifications and corrections are made to the Continuum of Care NOFA, commencing at 9851:

1. On page 9853, the last paragraph starting in the first column is amended to read as follows:

* * * * *

Your local needs analysis process must consider the need to continue funding for projects expiring in calendar year 2001, and you must assign a priority to those projects requesting renewal. HUD will not fund renewals out of order on the priority list except as may be necessary to achieve the new 30 percent overall permanent housing requirement. HUD reserves the authority to use FY 2001 funds, if available, to conditionally select for one year of funding lower-rated eligible SHP renewal projects that are assigned 40 need points in continuum of care systems that: (1) Would not otherwise receive funding for these projects; and (2) have not previously been awarded funds under this authority.

* * * * *

2. On page 9856, the last full paragraph starting in the third column is amended to read as follows:

* * * * *

In accordance with the appropriation for homeless assistance grants in the Fiscal Year 2000 Appropriation Act for HUD (Pub.L. 106-24, approved October 20, 1999; 113 Stat. 1047), HUD will use not less than 30 percent of the total FY 2000 homeless grant assistance appropriation to fund projects that meet the definition of permanent housing. Projects meeting the definition of permanent housing are: (1) New Shelter Plus Care projects; (2) Section 8 SRO projects; and (3) new and renewal projects designated as permanent housing for homeless persons with disabilities under the Supportive Housing Program. Since the FY 2000 homeless grant assistance appropriation is $1.020 billion, not less than $306 million must be awarded to permanent housing projects unless an insufficient number of approvable permanent housing projects is submitted in which case HUD will carry over the amount of the permanent housing funding shortfall to next year's competition. This permanent housing funding requirement may result in higher scoring non-permanent housing projects being skipped over to fund lower scoring permanent housing projects or, within a continuum, higher priority non-permanent housing projects being skipped over to fund lower priority permanent housing projects. HUD will first skip over new non-permanent housing projects when making project selections in order to meet the 30 percent requirement. If the 30 percent requirement has not been met after skipping over the new non-permanent housing projects, then HUD will skip over non-permanent housing renewal projects. In skipping over new non-permanent housing projects, HUD will begin with the lowest rated (eligible) fundable new non-permanent project at the projected funding line and continue up the rating and ranking until the 30 percent requirement is met. If HUD is required to skip over non-permanent housing renewal projects, HUD will proceed in the same way.

* * * * *

Dated: December 14, 2000.
Cardell Cooper,
Assistant Secretary for Community Planning and Development.

[FR Doc. 00-32371 Filed 12-19-00; 8:45 am]

BILLING CODE 4210-29-P